DEPARTMENT OF TRANSPORTATION

Federal Aviation Administration

14 CFR Part 71

[Docket No. FAA-2020-1100; Airspace Docket No. 20-AGL-1]

RIN 2120-AA66

Proposed Amendment of V-9, V-63, V-100, V-158, V-171, and T-325; and Revocation of V-127 in the Vicinity of Rockford, IL

AGENCY: Federal Aviation Administration (FAA), DOT.

ACTION: Notice of proposed rulemaking (NPRM).

SUMMARY: This action proposes to amend VHF Omnidirectional Range (VOR) Federal airways V-9, V-63, V-100, V-158, and V-171; amend Area Navigation (RNAV) route T-325; and remove VOR Federal airway V-127 in the vicinity of Rockford, IL. The air traffic service (ATS) route modifications are necessary due to the planned decommissioning of the VOR portion of the Rockford, IL, VOR/Distance Measuring Equipment (VOR/DME) navigation aid (NAVAID). Except for RNAV route T-325, the Rockford VOR/DME NAVAID provides navigation guidance for portions of the affected routes listed above. The Rockford VOR is being decommissioned as part of the FAA's VOR Minimum Operational Network (MON) program.

DATES: Comments must be received on or before February 1, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2020-1100; Airspace Docket No. 20-AGL-1 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-1100; Airspace Docket No. 20-AGL-1) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-1100; Airspace Docket No. 20-AGL-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Parkway, Fort Worth, TX, 76177.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

The FAA is planning decommissioning activities for the VOR portion of the Rockford, IL, VOR/DME in October 2021. The Rockford, IL, VOR is a candidate VOR identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Rockford VOR/DME is planned for decommissioning, the co-located DME portion of the NAVAID is being retained.

The existing ATS route dependencies to the Rockford, IL, VOR/DME NAVAID are VOR Federal airways V-9, V-63, V-100, V-127, V-158, and V-171. With the planned decommissioning of the VOR portion of the Rockford VOR/DME, the remaining ground-based NAVAID coverage in the area is insufficient to enable the continuity of the affected airways. As such, proposed modifications to the affected airways would result in creating a gap in three of the airways (V-9, V-63, and V-100), expanding an existing gap in one of the airways (V-171), redefining an airway point to retain one of the airways as charted (V-158); and removing the remaining airway completely (V-127).

To overcome the gaps created or expanded in four of the airways, and the loss of another airway, instrument flight rules (IFR) traffic could use adjacent ATS routes, including VOR Federal airways V-6, V-24, V-158, V-172, and V-216, or request air traffic control (ATC) radar vectors to fly through or circumnavigate the affected area. Additionally, IFR pilots equipped with RNAV PBN capabilities could also navigate point to point using the existing fixes that will remain in place to support continued operations though the affected area. Visual flight rules (VFR) pilots who elect to navigate via the airways through the affected area could also take advantage of the adjacent VOR Federal airways or ATC services listed previously.

To retain V-158 as charted, the FAA is proposing to redefine the airway point defined by the intersection of the Polo, IL, VOR/DME 122° and Rockford, IL, VOR/DME 169° radials (SHOOF fix) by using the existing Polo, IL, VOR/DME 122° radial and replacing the Rockford, IL, VOR/DME radial with a new Davenport, IA, VOR/Tactical Air Navigation (VORTAC) 087°(T)/083°(M) radial. As a result, the V-158 airway would remain unchanged and as currently charted.

The FAA is also proposing to extend RNAV route T-325 from the Terre Haute, IN, area to the Oshkosh, WI, area to, in part, mitigate arrival/departure route issues associated with the proposed loss of the V-9 and V-63 airway segments north of the Rockford VOR/DME. For approximately two weeks each summer, more than 10,000 aircraft converge on Oshkosh, WI, for the Experimental Aircraft Association (EAA) Air Venture Fly-In held at the Aviation Museum located at the Wittman Regional Airport. Extending T-325 to the Oshkosh, WI, area would mitigate the Air Venture Fly-In arrival/departure route issues caused by the proposed V-9 and V-63 modifications, provide airspace users with continued enroute ATS route structure north of the Rockford, IL, area, and support ongoing FAA NextGen efforts to modernize the NAS to performance-based navigation.

Prior to this NPRM, the FAA published a rule for Docket No. FAA-2020-0505 in the Federal Register (85 FR 67648; October 26, 2020), amending VOR Federal airway V-63 by removing the airway segment between the Bowie, TX, VORTAC and the Texoma, OK, VOR/DME. That airway amendment, effective December 31, 2020, is included in this NPRM.

Also prior to this NPRM, the FAA published a rule for Docket No. FAA-2020-0667 in the Federal Register (85 FR 79422; December 10, 2020), amending VOR Federal airway V-100 by removing the airway segment overlying the Sioux City, IA, VORTAC between the O'Neill, NE, VORTAC and the Fort Dodge, IA, VORTAC. That airway amendment, effective February 25, 2021, is included in this NPRM, as well.

The Proposal

The FAA is proposing an amendment to Title 14 Code of Federal Regulations (14 CFR) part 71 by modifying VOR Federal airways V-9, V-63, V-100, V-158, and V-171; modifying RNAV route T-325; and removing VOR Federal airway V-127. The planned decommissioning of the VOR portion of the Rockford, IL, VOR/DME has made this action necessary.

The proposed VOR Federal airway changes are outlined below.

V-9: V-9 currently extends between the Leeville, LA, VORTAC and the Houghton, MI, VOR/DME. The FAA proposes to remove the airway segment overlying the Rockford, IL, VOR/DME between the Pontiac, IL, VOR/DME and the Janesville, WI, VOR/DME. The unaffected portions of the existing airway would remain as charted.

V-63: V-63 currently extends between the Razorback, AR, VORTAC and the Oshkosh, WI, VORTAC; and between the Wausau, WI, VOR/DME and the Houghton, MI, VOR/DME. That airspace at and above 10,000 feet MSL from 5 NM north to 46 NM north of Quincy, IL, when the Howard West MOA is active is excluded. The FAA proposes to remove the airway segment overlying the Rockford, IL, VOR/DME between the Davenport, IA, VORTAC and the Janesville, WI, VOR/DME. The unaffected portions of the existing airway would remain as charted and the exclusion language would remain unchanged.

V-100: V-100 currently extends between the Medicine Bow, WY, VOR/DME and the O'Neill, NE, VORTAC; and between the Fort Dodge, IA, VORTAC and the Litchfield, MI, VOR/DME. The FAA proposes to remove the airway segment overlying the Rockford, IL, VOR/DME between the Dubuque, IA, VORTAC and the Northbrook, IL, VOR/DME. The unaffected portions of the existing airway would remain as charted.

V-127: V-127 currently extends between the Bradford, IL, VORTAC and the Rockford, IL, VOR/DME. The FAA proposes to remove the airway in its entirety.

V-158: V-158 currently extends between the Mason City, IA, VORTAC and the intersection of the Polo, IL, VOR/DME 122° and the Rockford, IL, VOR/DME 169° radials (SHOOF fix). The airspace within R-3302 is excluded. The FAA proposes to retain the airway and redefine the SHOOF fix as the intersection of the existing Polo, IL, VOR/DME 122° radial and the new Davenport, IA, VORTAC, 087°(T)/083°(M) radial. The existing airway would remain as charted and the exclusion language would remain unchanged.

V-171: V-171 currently extends between the Lexington, KY, VOR/DME and the Rockford, IL, VOR/DME; and between the Nodine, MN, VORTAC and the Roseau, MN, VOR/DME. The FAA proposes to remove the airway segment between the Joliet, IL, VOR/DME and the Rockford, IL, VOR/DME. The unaffected portions of the existing airway would remain as charted.

The proposed RNAV T-route changes are outlined below.

T-325: T-325 currently extends between the Bowling Green, KY, DME navigation aid and the Terre Haute, IN, VORTAC. The proposed change would remove the Terre Haute VORTAC and replace it with the JIBKA, IN, waypoint (WP) located near the Terre Haute VORTAC, and extend the route northward from the JIBKA, IN, WP to the Oshkosh, WI, VORTAC. The following points would be added between the JIBKA WP and the Oshkosh VORTAC: CAPPY, IL, WP; SMARS, IL, WP; TRENM, IL, WP; START, IL, WP; GRIFT, IL, WP; DEBOW, WI, WP; LUNGS, WI, WP; and the HOMNY, WI, WP. The unaffected segments of the existing route would remain as charted.

All radials in the VOR Federal airway descriptions below that do not reflect True (T)/Magnetic (M) degree radial information are unchanged and stated in True degrees.

VOR Federal airways are published in paragraph 6010(a) and United States RNAV T-routes are published in paragraph 6011 of FAA Order 7400.11E dated July 21, 2020, and effective September 15, 2020, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-9 [Amended]

From Leeville, LA; McComb, MS; INT McComb 004° and Magnolia, MS, 194° radials; Magnolia; Sidon, MS; Marvell, AR; Gilmore, AR; Malden, MO; Farmington, MO; St. Louis, MO; Spinner, IL; to Pontiac, IL. From Janesville, WI; Madison, WI; Oshkosh, WI; Green Bay, WI; Iron Mountain, MI; to Houghton, MI.

* * * * *

V-63 [Amended]

From Razorback, AR; Springfield, MO; Hallsville, MO; Quincy, IL; Burlington, IA; Moline, IL; to Davenport, IA. From Janesville, WI; Badger, WI; to Oshkosh, WI. From Wausau, WI; Rhinelander, WI; to Houghton, MI. Excluding that airspace at and above 10,000 feet MSL from 5 NM north to 46 NM north of Quincy, IL, when the Howard West MOA is active.

* * * * *

V-100 [Amended]

From Medicine Bow, WY; Scottsbluff, NE; Alliance, NE; Ainsworth, NE; to O'Neill, NE. From Fort Dodge, IA; Waterloo, IA; to Dubuque, IA. From Northbrook, IL; INT Northbrook 095° and Keeler, MI, 271° radials; Keeler; to Litchfield, MI.

* * * * *

V-127 [Removed]

* * * * *

V-158 [Amended]

From Mason City, IA; INT Mason City 106° and Dubuque, IA, 293° radials; Dubuque; Polo, IL; to INT Polo 122° and Davenport, IA, 087°(T)/083°(M) radials. The airspace within R-3302 is excluded.

* * * * *

V-171 [Amended]

From Lexington, KY; INT Lexington 251° and Louisville, KY, 114° radials; Louisville; Terre Haute, IN; Danville, IL; Peotone, IL; INT Peotone 281° and Joliet, IL, 173° radials; to Joliet. From Nodine, MN; INT Nodine 298° and Farmington, MN, 124° radials; Farmington; Darwin, MN; Alexandria, MN; INT Alexandria 321° and Grand Forks, ND, 152° radials; Grand Forks; to Roseau, MN.

* * * * *

Paragraph 6011 United States Area Navigation Routes.

* * * * *

T-325 Bowling Green, KY (BWG) to Oshkosh, WI (OSH) [Amended]
Bowling Green, KY (BWG) | DME | (Lat. 36°55′43.47″ N, long. 086°26′36.36″ W).
RENRO, KY | FIX | (Lat. 37°28′50.53″ N, long. 086°39′19.25″ W).
LOONE, KY | WP | (Lat. 37°44′14.43″ N, long. 086°45′18.02″ W).
APALO, IN | FIX | (Lat. 38°00′20.59″ N, long. 086°51′35.27″ W).
BUNKA, IN | FIX | (Lat. 39°04′57.32″ N, long. 087°09′06.58″ W).
JIBKA, IN | WP | (Lat. 39°30′08.93″ N, long. 087°16′26.74″ W).
CAPPY, IL | WP | (Lat. 40°00′06.00″ N, long. 087°44′31.22″ W).
SMARS, IL | WP | (Lat. 41°07′38.18″ N, long. 088°51′38.22″ W).
TRENM, IL | WP | (Lat. 41°17′24.93″ N, long. 089°00′27.53″ W).
START, IL | WP | (Lat. 41°45′24.83″ N, long. 089°00′21.81″ W).
GRIFT, IL | WP | (Lat. 42°17′28.14″ N, long. 088°53′41.42″ W).
DEBOW, WI | WP | (Lat. 42°44′08.30″ N, long. 088°50′48.92″ W).
LUNGS, WI | WP | (Lat. 43°02′43.66″ N, long. 088°56′54.86″ W).
HOMNY, WI | WP | (Lat. 43°31′02.22″ N, long. 088°39′40.15″ W).
Oshkosh, WI (OSH) | VORTAC | (Lat. 43°59′25.56″ N, long. 088°33′21.36″ W).

* * * * *

Issued in Washington, DC, on December 11, 2020.
George Gonzalez,
Acting Manager, Rules and Regulations Group.

[FR Doc. 2020-27632 Filed 12-15-20; 8:45 am]

BILLING CODE 4910-13-P